DEPARTMENT OF ENERGY

Federal Energy Regulatory Commission

Combined Notice of Filings #1

Take notice that the Commission received the following electric corporate filings:

Docket Numbers: EC22-118-000.

Applicants: Eastover Solar LLC, PGR 2021 Lessee 17, LLC.

Description: Application for Authorization Under Section 203 of the Federal Power Act of Eastover Solar LLC.

Filed Date: 9/9/22.

Accession Number: 20220909-5209.

Comment Date: 5 p.m. ET 9/30/22.

Take notice that the Commission received the following exempt wholesale generator filings:

Docket Numbers: EG22-217-000.

Applicants: Yellow Pine Solar, LLC.

Description: Yellow Pine Solar, LLC submits Notice of Self-Certification of Exempt Wholesale Generator Status.

Filed Date: 9/9/22.

Accession Number: 20220909-5166.

Comment Date: 5 p.m. ET 9/30/22.

Docket Numbers: EG22-218-000.

Applicants: Mesquite Solar 4, LLC.

Description: Mesquite Solar 4, LLC submits Notice of Self-Certification of Exempt Wholesale Generator Status.

Filed Date: 9/12/22.

Accession Number: 20220912-5049.

Comment Date: 5 p.m. ET 10/3/22.

Docket Numbers: EG22-219-000.

Applicants: Mesquite Solar 5, LLC.

Description: Self-Certification of EG for Mesquite Solar 5, LLC.

Filed Date: 9/12/22.

Accession Number: 20220912-5139.

Comment Date: 5 p.m. ET 10/3/22.

Take notice that the Commission received the following electric rate filings:

Docket Numbers: ER22-2525-000.

Applicants: Gridmatic Inc.

Description: Supplement to July 29, 2022, Gridmatic Inc. tariff filing per 35.12: MBR Tariff Application.

Filed Date: 9/7/22.

Accession Number: 20220907-5119.

Comment Date: 5 p.m. ET 9/19/22.

Docket Numbers: ER22-2829-000.

Applicants: American Electric Power Service Corporation, Ohio Power Company, AEP Ohio Transmission Company, Inc., PJM Interconnection, L.L.C.

Description: § 205(d) Rate Filing: American Electric Power Service Corporation submits tariff filing per 35.13(a)(2)(iii: AEP submits Two FAs re: ILDSA SA No. 1336 to be effective 11/12/2022.

Filed Date: 9/12/22.

Accession Number: 20220912-5026.

Comment Date: 5 p.m. ET 10/3/22.

Docket Numbers: ER22-2830-000.

Applicants: The Connecticut Light and Power Company.

Description: § 205(d) Rate Filing: New York Transco LLC—Engineering, Design and Procurement Agreement to be effective 9/13/2022.

Filed Date: 9/12/22.

Accession Number: 20220912-5068.

Comment Date: 5 p.m. ET 10/3/22.

Docket Numbers: ER22-2831-000.

Applicants: ISO New England Inc., Vermont Transco LLC.

Description: § 205(d) Rate Filing: ISO New England Inc. submits tariff filing per 35.13(a)(2)(iii: Vermont Transco LLC; Tariff Clean-Up Filing to be effective 5/1/2022.

Filed Date: 9/12/22.

Accession Number: 20220912-5080.

Comment Date: 5 p.m. ET 10/3/22.

Docket Numbers: ER22-2832-000.

Applicants: Cardinal Point LLC.

Description: Baseline eTariff Filing: Reactive Power Compensation Baseline Filing to be effective 10/31/2022.

Filed Date: 9/12/22.

Accession Number: 20220912-5084.

Comment Date: 5 p.m. ET 10/3/22.

Docket Numbers: ER22-2833-000.

Applicants: Alabama Power Company, Georgia Power Company, Mississippi Power Company

Description: § 205(d) Rate Filing: Alabama Power Company submits tariff filing per 35.13(a)(2)(iii: Middleton Solar Farm LGIA Filing to be effective 8/26/2022.

Filed Date: 9/12/22.

Accession Number: 20220912-5091.

Comment Date: 5 p.m. ET 10/3/22.

Docket Numbers: ER22-2834-000.

Applicants: ISO New England Inc., Green Mountain Power Corporation.

Description: § 205(d) Rate Filing: ISO New England Inc. submits tariff filing per 35.13(a)(2)(iii: Green Mountain Power; Tariff Clean-Up Filing to be effective 5/1/2022.

Filed Date: 9/12/22.

Accession Number: 20220912-5094.

Comment Date: 5 p.m. ET 10/3/22.

Docket Numbers: ER22-2835-000.

Applicants: PacifiCorp.

Description: § 205(d) Rate Filing: Colstrip Trans System LGIA—Concurrence GB Energy to be effective 8/22/2022.

Filed Date: 9/12/22.

Accession Number: 20220912-5117.

Comment Date: 5 p.m. ET 10/3/22.

Docket Numbers: ER22-2836-000.

Applicants: Midcontinent Independent System Operator, Inc.

Description: § 205(d) Rate Filing: 2022-09-12_RPU Remove LIBOR and Correction Filing to be effective 1/1/2023.

Filed Date: 9/12/22.

Accession Number: 20220912-5126.

Comment Date: 5 p.m. ET 10/3/22.

Docket Numbers: ER22-2837-000.

Applicants: Desert Sunlight 250, LLC.

Description: § 205(d) Rate Filing: A&R LGIA Co-Tenancy Agreement to be effective 9/13/2022.

Filed Date: 9/12/22.

Accession Number: 20220912-5142.

Comment Date: 5 p.m. ET 10/3/22.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5 p.m. eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: September 12, 2022.
Debbie-Anne A. Reese,
Deputy Secretary.

[FR Doc. 2022-20073 Filed 9-15-22; 8:45 am]

BILLING CODE 6717-01-P